DEPARTMENT OF ENERGY

Federal Energy Regulatory Commission

[Docket No. CP10-48-000]

Southern Star Central Gas Pipeline, Inc.; Notice of Request Under Blanket Authorization

February 16, 2010.

Take notice that on January 29, 2010, Southern Star Central Gas Pipeline, Inc. (Southern Star), 4700 State Highway 56, Owensboro, Kentucky 42301, filed in Docket No. CP10-48-000, a prior notice request pursuant to sections 157.205, 157.210, and 157.216 of the Federal Energy Regulatory Commission's regulations under the Natural Gas Act for authorization to replace a two mile section of the 12-inch diameter XT pipeline by constructing approximately two miles of 20-inch diameter pipeline, located in Johnson County, Missouri, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Southern Star proposes to replace two miles of 12-inch diameter XT pipeline with two miles of 20-inch diameter XM pipeline as a continuation of its multi-year plan initiated in 2008 to replace the remaining miles of 12-inch diameter XT pipeline. Southern Star estimates the cost of construction to be $4,961,000, for which internally generated funds will be used. Southern Star asserts that after the proposed construction is completed, approximately two miles of the 12-inch diameter XT pipeline will be abandoned either in place or by removal at landowners' discretion. Southern Star states that the replacement pipeline will improve reliability and offer flexibility on its system, but does not provide any additional firm capacity upstream and will continue to be operated at its current Maximum Allowable Operating Pressure (MAOP) of 570 psi.

Any questions regarding the application should be directed to David N. Roberts, Manager, Regulatory Affairs, Southern Star Central Gas Pipeline, Inc., 4700 State Highway 56, Owensboro, Kentucky 42301, or call (270) 852-4654.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. 2010-3461 Filed 2-22-10; 8:45 am]

BILLING CODE 6717-01-P